DEPARTMENT OF ENERGY

Federal Energy Regulatory Commission

Combined Notice of Filings

Take notice that the Commission has received the following Natural Gas Pipeline Rate and Refund Report filings:

Filings Instituting Proceedings

Docket Numbers: PR15-23-000.

Applicants: Bridgeline Holdings, L.P.

Description: Submits tariff filing per 284.123(e) + (g): SOC Contact Updates to be effective 3/1/2015; Filing Type: 1280.

Filed Date: 2/26/15.

Accession Number: 20150226-5194.

Comments Due: 5 p.m. ET 3/19/15.

284.123(g) Protests Due: 5 p.m. ET 4/27/15.

Docket Numbers: PR15-24-000.

Applicants: Centana Intrastate Pipeline, LLC.

Description: Submits tariff filing per 284.123(b)(2) + (g): CIPCO Rate Case to be effective 3/1/2015; Filing Type: 1310.

Filed Date: 2/27/15.

Accession Number: 20150227-5335.

Comments Due: 5 p.m. ET 3/20/15.

284.123(g) Protests Due: 5 p.m. ET 4/28/15.

Docket Numbers: PR15-25-000.

Applicants: Enable Oklahoma Intrastate Transmission, LLC.

Description: Submits tariff filing per 284.123(e) + (g): Revised Fuel Percentages April 1, 2015 through March 31, 2016 to be effective 4/1/2015; Filing Type: 1280.

Filed Date: 2/27/15.

Accession Number: 20150227-5536.

Comments Due: 5 p.m. ET 3/20/15.

284.123(g) Protests Due: 5 p.m. ET 4/28/15.

Docket Numbers: RP15-556-000.

Applicants: High Island Offshore System, L.L.C.

Description: High Island Offshore System, L.L.C. 2015 Annual Fuel Filing.

Filed Date: 2/26/15.

Accession Number: 20150226-5350.

Comments Due: 5 p.m. ET 3/10/15.

Docket Numbers: RP15-597-000.

Applicants: Crossroads Pipeline Company.

Description: Crossroads Pipeline Company Annual Transportation Retainage Adjustment Filing.

Filed Date: 2/27/15.

Accession Number: 20150227-5583.

Comments Due: 5 p.m. ET 3/11/15.

Docket Numbers: RP15-598-000.

Applicants: Dauphin Island Gathering Partners.

Description: Storm Surcharge Filing, no change in rate of Dauphin Island Gathering Partners.

Filed Date: 2/27/15.

Accession Number: 20150227-5584.

Comments Due: 5 p.m. ET 3/11/15.

Docket Numbers: RP15-599-000.

Applicants: Hardy Storage Company, LLC.

Description: Hardy Storage Company, LLC Operational Transactions Report 2014.

Filed Date: 2/27/15.

Accession Number: 20150227-5585.

Comments Due: 5 p.m. ET 3/11/15.

Docket Numbers: RP15-600-000.

Applicants: Columbia Gulf Transmission, LLC.

Description: Columbia Gulf Transmission, LLC Operational Transactions Report 2014.

Filed Date: 2/27/15.

Accession Number: 20150227-5586.

Comments Due: 5 p.m. ET 3/11/15.

Docket Numbers: RP15-601-000.

Applicants: Crossroads Pipeline Company.

Description: Crossroads Pipeline Company Operational Transactions Report 2014.

Filed Date: 2/27/15.

Accession Number: 20150227-5587.

Comments Due: 5 p.m. ET 3/11/15.

Docket Numbers: RP15-602-000.

Applicants: Millennium Pipeline Company, LLC.

Description: Millennium Pipeline Company, LLC Operational Transactions Report 2014.

Filed Date: 2/27/15.

Accession Number: 20150227-5589.

Comments Due: 5 p.m. ET 3/11/15.

Docket Numbers: RP15-603-000.

Applicants: TransColorado Gas Transmission Company L.

Description: TransColorado Gas Transmission Company LLC 2014 Annual Fuel Gas Reimbursement Percentage Report.

Filed Date: 2/27/15.

Accession Number: 20150227-5592.

Comments Due: 5 p.m. ET 3/11/15.

Docket Numbers: RP15-604-000.

Applicants: Iroquois Gas Transmission System, L.P.

Description: § 4(d) rate filing per 154.204: 03/03/15 Negotiated Rates—Sequent Energy Management (HUB) 3075-89 to be effective 3/2/2015.

Filed Date: 3/3/15.

Accession Number: 20150303-5077.

Comments Due: 5 p.m. ET 3/16/15.

Docket Numbers: RP15-605-000.

Applicants: ExxonMobil LNG Supply LLC.

Description: Joint Petition for Waiver of ExxonMobil LNG Supply LLC, et al.

Filed Date: 2/27/15.

Accession Number: 20150227-5607.

Comments Due: 5 p.m. ET 3/11/15.

Docket Numbers: RP15-607-000.

Applicants: Iroquois Gas Transmission System, L.P.

Description: § 4(d) rate filing per 154.204: 03/03/15 Negotiated Rates—ConEdison Energy Inc. (HUB) 2275-89 to be effective 3/2/2015.

Filed Date: 3/3/15.

Accession Number: 20150303-5151.

Comments Due: 5 p.m. ET 3/16/15.

Docket Numbers: RP15-608-000.

Applicants: Northern Natural Gas Company.

Description: § 4(d) rate filing per 154.204: 20150303 Negotiated Rate to be effective 3/4/2015.

Filed Date: 3/3/15.

Accession Number: 20150303-5216.

Comments Due: 5 p.m. ET 3/16/15.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

Filings in Existing Proceedings

Docket Numbers: RP15-485-001.

Applicants: Guardian Pipeline, L.L.C.

Description: Tariff Amendment per 154.205(b): Amendment to Docket No. RP15-485-000—Negotiated Rate PAL with Exelon to be effective 2/20/2015.

Filed Date: 3/3/15.

Accession Number: 20150303-5215.

Comments Due: 5 p.m. ET 3/16/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated March 4, 2015.
Nathaniel J. Davis, Sr.,
Deputy Secretary.

[FR Doc. 2015-05866 Filed 3-13-15; 8:45 am]

BILLING CODE 6717-01-P